DEPARTMENT OF THE INTERIOR

National Park Service

[N6793; NPS-WASO-NAGPRA-NPS0041564; PPWOCRADN0-PCU00RP14.R50000]

Notice of Inventory Completion: Rochester Museum & Science Center, Rochester, NY

AGENCY: National Park Service, Interior.

ACTION: Notice.

SUMMARY: In accordance with the Native American Graves Protection and Repatriation Act (NAGPRA), the Rochester Museum & Science Center (RMSC) has completed an inventory of human remains and associated funerary objects and has determined that there is a cultural affiliation between the human remains and associated funerary objects and Indian Tribes or Native Hawaiian organizations in this notice.

DATES: Repatriation of the human remains and associated funerary objects in this notice may occur on or after January 20, 2026.

ADDRESSES: Send written requests for repatriation of the human remains and associated funerary objects in this notice to Elizabeth Alecki, Rochester Museum & Science Center, 657 East Avenue, Rochester, NY 14607, email ealecki@rmsc.org.

SUPPLEMENTARY INFORMATION: This notice is published as part of the National Park Service's administrative responsibilities under NAGPRA. The determinations in this notice are the sole responsibility of the Rochester Museum & Science Center, and additional information on the determinations in this notice, including the results of consultation, can be found in its inventory or related records. The National Park Service is not responsible for the determinations in this notice.

Abstract of Information Available

Human remains representing, at least, four individuals have been identified.

Human remains representing, at minimum, three individuals were removed from the Bell-Philhower Site in Sussex County, NJ, by William A. Ritchie through RMSC excavation in July or August 1947. No known individuals were identified. The 4,146 associated funerary objects are 3,229 pottery sherds, 672 stone tools, 144 projectile points, 36 canine bones, 18 bone tools, 12 pots, 13 pipe fragments, seven turtle carapace fragments, two bear canines, two conches, one gorget fragment, one iron tool, one pipe, one portion of comb top, one piece of quartz, one spangle, one steatite dish portion, one strike-a-light, one piece of carbonized antler fragment, one piece of carbonized glass, one piece of charcoal. Of the 4,146 objects, 22 pottery sherds, three stone tools, six projectile points, one bone tool, and one pipe fragment are considered missing.

Human remains representing, at minimum, one individual were removed from the Davenport Site in Sussex County, NJ, by William A. Ritchie through Rochester Museum excavation at an unknown date. No known individuals were identified. The 89 associated funerary objects are 58 pottery sherds, 25 stone tools, three projectile points, two bone tools, and one piece of charred wood.

There is no record of the human remains or associated funerary objects being treated with pesticides, preservatives, or other substances that represent a potential hazard to the object(s) or to person(s) handling the object(s).

Cultural Affiliation

Based on the information available and the results of consultation, cultural affiliation is clearly identified by the geographic location or acquisition history of the human remains and associated funerary objects described in this notice.

Determinations

The RMSC has determined that:

• The human remains described in this notice represent the physical remains of four individuals of Native American ancestry.

• The 4,235 objects described in this notice are reasonably believed to have been placed intentionally with or near individual human remains at the time of death or later as part of the death rite or ceremony.

• There is a connection between the human remains and associated funerary objects described in this notice and the Delaware Nation, Oklahoma; Delaware Tribe of Indians; and the Stockbridge Munsee Community, Wisconsin.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after January 20, 2026. If competing requests for repatriation are received, the Rochester Museum & Science Center must determine the most appropriate requestor prior to repatriation. Requests for joint repatriation of the human remains and associated funerary objects are considered a single request and not competing requests. The RMSC is responsible for sending a copy of this notice to the Indian Tribes and Native Hawaiian organizations identified in this notice and any other consulting parties.

Authority: Native American Graves Protection and Repatriation Act, 25 U.S.C. 3003, and the implementing regulations, 43 CFR 10.10.

Dated: December 8, 2025.
Melanie O'Brien,
Manager, National NAGPRA Program.

[FR Doc. 2025-23372 Filed 12-18-25; 8:45 am]

BILLING CODE 4312-52-P